DEPARTMENT OF TRANSPORTATION

Federal Aviation Administration

14 CFR Part 39

[Docket No. 98-ANE-61-AD; Amendment 39-11941; AD 2000-21-09]

RIN 2120-AA64

Airworthiness Directives; Pratt & Whitney PW2000 Series Turbofan Engines, Correction

AGENCY: Federal Aviation Administration, DOT.

ACTION: Final rule; correction

SUMMARY: This document makes a correction to Airworthiness Directive (AD) 2000-21-09 applicable to Pratt & Whitney PW 2000 series turbofan engines that was published in the Federal Register on October 24, 2000 (65 FR 63542). The statements identifying AD 2000-21-09 as superseding AD 99-08-14, Amendment 39-11120 (64 FR 17949, dated April 13, 1999), were inadvertantly omitted from the Summary section, Supplementary Information section, and the AD heading. This document corrects those statements. In all other respects, the original document remains the same.

EFFECTIVE DATE: January 22, 2001.

FOR FURTHER INFORMATION CONTACT: Jason Yang, Aerospace Engineer, Engine Certification Office, FAA, Engine and Propeller Directorate, 12 New England Executive Park, Burlington, MA 01803-5299; telephone 781-238-7747; fax 781-238-7199.

SUPPLEMENTARY INFORMATION: A final rule airworthiness directive (FR Doc. 00-27166) applicable to Pratt & Whitney PW2000 series turbofan engines, was published in the Federal Register on October 24, 2000 (65 FR 63542). The following corrections are needed:

1. On page 63542, in the first column, in the Summary section, in the first and second lines, “This amendment adopts a new airworthiness directive” is corrected to read “This amendment supersedes an existing airworthiness directive”.

2. On page 63542, in the first column, in the SUPPLEMENTARY INFORMATION section, in the first paragraph, in the third and fourth lines, “(14 CFR part 39) to include an airworthiness directive (AD)” is corrected to read “(14 CFR part 39) by superseding (AD) 99-08-14, Amendment 39-11120 (64 FR 17949), dated April 13, 1999”.

§ 39.13 [Corrected]

3. On page 63543, in the second column, in the AD heading, in the second line, “39-11941. Docket No. 98-ANE-61-AD.” is corrected to read “39-11941 Docket No. 98-ANE-61-AD. Supersedes AD 99-08-14, Amendment 39-11120.”.

Issued in Burlington, MA, on October 25, 2000.
David A. Downey,
Assistant Manager, Engine and Propeller Directorate, Aircraft Certification Service.

[FR Doc. 00-27945 Filed 11-1-00; 8:45 am]

BILLING CODE 4910-13-P